DEPARTMENT OF DEFENSE

Department of the Army; Corps of Engineers

Availability of Surplus Land (Honey Lake) Located at Sierra Army Depot, Herlong, CA

AGENCY: Department of the Army, U.S. Army Corps of Engineers, DoD.

ACTION: Notice of availability.

SUMMARY: This notice identified the surplus real property, Honey Lake, which is located at Sierra Army Depot, Herlong, CA (SIAD). SIAD is located mid-way between Reno, NV and Susanville, CA.

DATES: Letters of intent from eligible public agencies must be submitted in writing no later than April 18, 2003, to Ms. Susan Krinks, U.S. Army Corps of Engineers, Sacramento District, 1325 J Street, Sacramento, CA 95814-2922.

FOR FURTHER INFORMATION CONTACT: For more information regarding Honey Lake, contact Ms. Susan Krinks, Realty Specialists, at (916) 557-6815.

SUPPLEMENTARY INFORMATION: This surplus property is available under the provisions of the Federal Property and Administrative Services Act of 1949 for public benefit uses, and under 10 U.S.C. 2694a for natural resource conservation uses. Honey Lake is subject to a reversion to the State of California pursuant to California Senate Bill No. 573, Chapter 845. Honey Lake is a shallow, alkaline lake with no outlet. Lake levels fluctuate widely, and during drought years, lake levels are greatly reduced, or the lake may become completely dry. The surrounding area is rural and sparsely populated. Future uses may be limited to those described above.

Marvin D. Fisher,
Chief, Real Estate Division, U.S. Army Engineer District, Sacramento.

[FR Doc. 03-7499 Filed 3-27-03; 8:45 am]

BILLING CODE 3710-EZ-M